SMALL BUSINESS ADMINISTRATION

North Florida District Advisory Council

AGENCY: U.S. Small Business Administration.

ACTION: Notice of open Federal advisory committee meeting.

SUMMARY: The SBA is issuing this notice to announce the location, date, time, and agenda for the next meeting of the North Florida District Advisory Council. The meeting will be open to the public.

DATES: The meeting will be held on Thursday, November 3, 2011 from approximately 12 p.m. to 2 p.m. Eastern Standard Time.

ADDRESSES: The meeting will be held at the North Florida District Office, 7825 Baymeadows Way, Suite 100-B, Jacksonville, FL 32256.

SUPPLEMENTARY INFORMATION: Pursuant to section 10(a)(2) of the Federal Advisory Committee Act (5 U.S.C., Appendix 2), SBA announces the meeting of the North Florida District Advisory Council. The North Florida District Advisory Council is tasked with providing advice and opinions to SBA regarding the effectiveness of and need for SBA programs, particularly within North Florida and for listening to what is currently happening in the Florida small business community.

The purpose of the meeting is to discuss the current economic condition for small businesses in the North Florida District area. The agenda will include: luncheon/meeting to hear from the members of the council from the Jacksonville area, and to hear from the SBA staff on SBA updates for the District.

FOR FURTHER INFORMATION CONTACT: The meeting is open to the public however advance notice of attendance is requested. Anyone wishing to attend and/or make a presentation to the North Florida District Advisory Council must contact Nayana Sen by October 21, 2011 by fax or e-mail in order to be placed on the agenda. Nayana Sen, Business Development Specialist, 7825 Baymeadows Way, Suite 100-B, Jacksonville, FL 32256, (904) 443-1933, (904) 443-1980 (fax), or Nayana.sen@sba.gov.

Additionally, if you need accommodations because of a disability or require additional information, please contact Nayana Sen, Business Development Specialist, at (904) 443-1933, or Nayana.sen@sba.gov.

Dated: October 7, 2011.
Dan Jones,
SBA Committee Management Officer.

[FR Doc. 2011-26658 Filed 10-13-11; 8:45 am]

BILLING CODE 8025-01-P